DEPARTMENT OF HOMELAND SECURITY

U.S. Citizenship and Immigration Services

Agency Information Collection Activities: Comment Request; Revised Information Collection

ACTION: Request OMB emergency approval; Application To Replace Permanent Resident Card, Form I-90.

The Department of Homeland Security, U.S. Citizenship and Immigration Services (USCIS) has submitted an emergency information request (ICR) utilizing emergency review procedures to the Office of Management and Budget (OMB) for review and clearance in accordance with section 1320.13(a)(1)(ii) and (a)(2)(iii) of the Paperwork Reduction Act of 1995. USCIS has determined that it cannot reasonably comply with the normal clearance procedures under this part because normal clearance procedures are reasonably likely to prevent or disrupt the collection of information. USCIS is requesting emergency review from OMB of this information collection to ensure compliance with the Enhanced Security and Visa Entry Reform Act of 2002 (BSA), 8 U.S.C. 1732(b)(1), which requires travel and entry documents to contain certain features. Emergency review and approval of this ICR ensures that the applicant may apply for this benefit utilizing the revised information collection.

Permanent residents must file Form I-90, Application to Replace Permanent Resident Card to renew or replace their Form I-551, Permanent Resident Card. The Form I-551 has many uses, one of which is as an entry document for permanent residents returning to the United States after a trip abroad. Effective October 26, 2004, section 303 of the BSA requires that travel and entry documents be machine readable, tamper resistant, and use biometric identifiers. To comply with the BSA, USCIS is amending the instructions to the Form I-90 to request applicants to appear at a USCIS Application Support Centers (ASCs) and provide USCIS with the necessary biometric information. Such information includes a photograph, signature and fingerprints. USCIS will collect and store this biometric information electronically for production of a tamper-resistant Form I-551 in compliance with the BSA. Moreover, USCIS plans to maintain the information in a national database, enhancing national security and public safety. As a result, DHS anticipates that this will reduce the number of future visits applicants will be required to make to an ASC throughout the entire immigration process. In order to provide this service, USCIS will charge applicants a $70 biometrics fee.

For the aforementioned reasons, the USCIS is requesting emergency OMB review and approval of this information collection request by May 23, 2005. If granted, the emergency approval is only valid for 180 days. ALL comments and/or questions pertaining to this pending request for emergency approval MUST be direct to OMB, Office of Information and Regulatory Affairs, 725-17th Street, NW., Suite 10235, Washington, DC 20503; Attention: Department of Homeland Security Desk Officer. During the first 60 days of this same period, a regular review of this information collection is also being undertaken. During the regular review period, USCIS requests written comments and suggestions from the public and affected agencies concerning this information collection. Comments are encouraged and will be accepted until July 11, 2005. During the 60-day regular review, ALL comments and suggestions, or questions regarding additional information, to include obtaining a copy of the information collection instrument with instructions, should be directed to Director, Regulatory Management Division (202) 272-8733, U.S. Citizenship and Immigration Services, Department of Homeland Security, 111 Massachusetts Avenue, NW., 3rd Floor, Washington, DC 20529.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revised information collection.

(2) Title of the Form/Collection: Application to Replace Permanent Resident Card.

(3) Agency form number, if any, and the applicable component of Department of Homeland Security: Form I-90 U.S. Citizenship and Immigration Services.

(4) Affected public who will be asked or required to respond, as well as a brief abstract: Primary: Individuals. This form is used by a permanent resident to obtain a replacement Form I-551 when: the previous card has been lost, stolen, destroyed, or mutilated; the existing card will be expiring within 6 months; the bearer's name or other biographic existing card will be expiring within 6 months; the bearer's name or other biographic information has been legally changed; the applicant is taking up actual U.S. residence after having been a commuter or is permanent resident taking up commuter status; the applicant has been automatically converted to permanent resident status; the previous card was issued but never received; the bearer of the card reached the age of 14 years, unless the existing card will expire prior to the bearer's 16th birthday; or the existing card bears incorrect data on account of USCIS error. The Form I-551 serves as evidence of registration, status, identity, and employment authorization, and may be used to return to the United States after a trip abroad. This information collection amends the instructions to the Form I-90 to direct applicants to file the form at the California Lockbox address, pay a biometric capture fee of $70 in addition to the application fee when filing the form, and appear at an ASC for biometric capture and the submission of initial evidence.

(5) An estimate of the total number of respondents and the amount of time estimated for an average respondent to respond: 1,000,000 responses at 55 minutes per response.

(6) An estimate of the total public burden (in hours) associated with the collection: 916,000 annual burden hours.

If you have comments, suggestions, or need a copy of the draft form, please visit the USCIS Web site at http://www.uscis.gov. Also you may contact: Director, Regulatory Management Division, (202) 272-8377, United States Department of Homeland Security, 111 Massachusetts Avenue, NW., 3rd Floor, Washington, DC 20529.

Dated: May 6, 2005.
Richard A. Sloan,
Director, Regulatory Management Division, United States of Homeland Security, U.S. Citizenship and Immigration Services.

[FR Doc. 05-9460 Filed 5-9-05; 2:18 pm]

BILLING CODE 4410-10-M